DEPARTMENT OF HEALTH AND HUMAN SERVICES

Substance Abuse and Mental Health Services Administration

Fiscal Year (FY) 2012 Funding Opportunity

AGENCY: Substance Abuse and Mental Health Services Administration, HHS.

ACTION: Notice of intent to award a Single Source Grant to the current grantee of the Suicide Prevention Resource Center (SPRC) program.

SUMMARY: This notice is to inform the public that the Substance Abuse and Mental Health Services Administration (SAMHSA) intends to award a programmatic supplement of approximately $800,000 (total costs) for up to one year to the current grantee of the Suicide Prevention Resource Center program. The current grantee is the Education Development Center, Inc. in Newton, Massachusetts. This is not a formal request for applications. Assistance will be provided only to the Education Development Center, Inc. based on receipt of a satisfactory application that is approved by an independent review group.

Funding Opportunity Title: SM-12-011.

Catalog of Federal Domestic Assistance (CFDA) Number: 93.243.

Authority: Section 520C and 520A of the Public Health Service Act, as amended.

Justification: The purpose of this one-year supplement to the SPRC is twofold. The first goal is to expand and enhance the level of support provided to the National Action Alliance for Suicide Prevention. This supplement will expand future organizational development, partnerships, and collaborations to support the implementation of the National Strategy for Suicide Prevention (NSSP).

A second goal is to build on existing SPRC activities to support the Garrett Lee Smith (GLS) Suicide Prevention grantees in youth suicide prevention on campuses and in States and Tribes, to include:

• Providing technical assistance in youth suicide prevention to a new cohort of GLS Suicide Prevention State, Tribal, and Campus grantees;

• Developing and implementing a strategic framework to embed sustainable and coordinated, comprehensive youth suicide prevention activities in States, Tribes and colleges across the country. This should include a review of effective suicide prevention practices and programs utilized by GLS grantees that are most likely to be sustained in States, Tribes, and colleges; and

• Developing a plan to improve inclusion of youth substance abuse treatment and prevention programming in GLS grant activities.

This cooperative agreement is financed in part with FY 2012 Prevention and Public Health Funds (PPHF-2012). SAMHSA funds only one Suicide Prevention Resource Center, SAMHSA's primary vehicle for providing technical assistance to GLS Suicide Prevention grantees and to the field. Therefore, this program supplement will be awarded to the grantee that manages the SPRC, specifically to the Education Development Center, Inc. in Newton, Massachusetts. There are no other sources with the available resources and expertise to successfully complete the tasks of this proposal. Further, it would be both inefficient and wasteful to fund a second technical assistance provider for the same group of grantees.

FOR FURTHER INFORMATION CONTACT: Cathy Friedman, Substance Abuse and Mental Health Services Administration, 1 Choke Cherry Road, Room 8-1097, Rockville, MD 20857; Telephone: (240) 276-2316; Email: cathy.friedman@samhsa.hhs.gov.

Cathy Friedman,
Public Health Analyst, SAMHSA.

[FR Doc. 2012-16038 Filed 6-29-12; 8:45 am]

BILLING CODE 4162-20-P